DEPARTMENT OF HEALTH AND HUMAN SERVICES

Meeting of the Advisory Group on Prevention, Health Promotion, and Integrative and Public Health

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that a meeting is scheduled for the Advisory Group on Prevention, Health Promotion, and Integrative and Public Health (the “Advisory Group”). This meeting will be open to the public. Information about the Advisory Group and the agenda for this meeting can be obtained by accessing the following Web site: http://www.surgeongeneral.gov/priorities/prevention/advisorygrp/index.html.

DATES: The meeting will be held on July 11, 2016, from 3:00 p.m.-5:00 p.m. EST.

ADDRESSES: This meeting will be held via teleconference. Teleconference information and the exact meeting time will be published closer to the meeting date at: http://www.surgeongeneral.gov/priorities/prevention/advisorygrp/index.html.

FOR FURTHER INFORMATION CONTACT: Office of the Surgeon General, U.S. Department of Health and Human Services, 200 Independence Ave. SW.; Washington, DC 20201; 202-205-9517; npcsupport@cdc.gov.

SUPPLEMENTARY INFORMATION: The Advisory Group is a non-discretionary federal advisory committee that was initially established under Executive Order 13544, dated June 10, 2010, to comply with the statutes under Section 4001 of the Patient Protection and Affordable Care Act, Public Law 111-148. The Advisory Group was terminated on September 30, 2012, by Executive Order 13591, dated November 23, 2011. Authority for the Advisory Group to be re-established was given under Executive Order 13631, dated December 7, 2012. Authority for the Advisory Group to continue to operate until September 30, 2017, was given under Executive Order 13708, dated September 30, 2015.

The Advisory Group was established to assist in carrying out the mission of the National Prevention, Health Promotion, and Public Health Council (the Council). The Advisory Group provides recommendations and advice to the Council. It is authorized for the Advisory Group to consist of not more than 25 non-federal members. The Advisory Group currently has 21 members who were appointed by the President. The membership includes a diverse group of licensed health professionals, including integrative health practitioners who have expertise in (1) worksite health promotion; (2) community services, including community health centers; (3) preventive medicine; (4) health coaching; (5) public health education; (6) geriatrics; and (7) rehabilitation medicine.

A meeting description and relevant materials will be published closer to the meeting date at: http://www.surgeongeneral.gov/priorities/prevention/advisorygrp/.

Members of the public have the opportunity to participate in the meeting and/or provide comments to the Advisory Group on July 11, 2016. Public comment will be limited to 3 minutes per speaker. Individuals who wish to participate in the meeting and/or provide comments must register by 12:00 p.m. EST on July 5, 2016. In order to register, individuals must send their full name and affiliation via email to npcsupport@cdc.gov. Individuals who need special assistance and/or accommodations, i.e., sign language interpretation or other reasonable accommodations, should indicate so when they register. Members of the public who wish to have materials distributed to the Advisory Group members at these scheduled meetings should submit those materials when they register.

Dated: May 23, 2016.
Brigette Ulin,
Designated Federal Officer, Advisory Group on Prevention, Health Promotion, and Integrative and Public Health, Office of the Surgeon General.

[FR Doc. 2016-13558 Filed 6-7-16; 8:45 am]

BILLING CODE 4163-18-P